FARM CREDIT ADMINISTRATION

Farm Credit Administration Board; Regular Meeting; Sunshine Act

AGENCY: Farm Credit Administration.

SUMMARY: Notice is hereby given, pursuant to the Government in the Sunshine Act (5 U.S.C. 552b(e)(3)), of the regular meeting of the Farm Credit Administration Board (Board).

Date and Time: The regular meeting of the Board will be held at the offices of the Farm Credit Administration in McLean, Virginia, on April 10, 2003, from 9 a.m. until such time as the Board concludes its business.

FOR FURTHER INFORMATION CONTACT: Jeanette C. Brinkley, Secretary to the Farm Credit Administration Board, (703) 883-4009, TTY (703) 883-4056.

ADDRESS: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—March 28, 2003 (Open and Closed).

B. Reports

—Rural Poverty.

—FCS Building Association Quarterly Report.

—OIG Advisory Report on the FCA Continuity of Operations Plan.

—Office of the Comptroller of the Currency Ombudsman Functions.

—Loan Growth Study.

—Farm Credit System Structure Study.

—Risk Analysis Report—First Quarter Fiscal Year 2003.

C. New Business

1. Regulations

—Credit and Related Services—Draft Proposed Rule.

2. Other

—Draft Amended and Restated Market Access Agreement—Final Approval.

Closed Session ¹

¹ Session Closed-Exempt pursuant to 5 U.S.C. 552b(c)(8).

Reports

—Examination Issues.

Dated: April 4, 2003.
Jeanette C. Brinkley,
Secretary, Farm Credit Administration Board.

[FR Doc. 03-8689 Filed 4-4-03; 2:52 pm]

BILLING CODE 6705-01-P